DEPARTMENT OF COMMERCE

International Trade Administration

[A-557-813]

Polyethylene Retail Carrier Bags From Malaysia: Preliminary Results of Antidumping Duty Administrative Review; 2023-2024

AGENCY: Enforcement and Compliance, International Trade Administration, Department of Commerce.

SUMMARY: The U.S. Department of Commerce (Commerce) preliminarily finds that Euro SME Sdn Bhd/Euro Nature Green Sdn. Bhd. (collectively, Euro SME) did not make sales of polyethylene retail carrier bags (PRCBs) from Malaysia at less than normal value (NV) during the period of review (POR), August 1, 2023, through July 31, 2024. We invite interested parties to comment on these preliminary results.

DATES: Applicable February 10, 2026.

FOR FURTHER INFORMATION CONTACT: Kyle Clahane, AD/CVD Operations, Office III, Enforcement and Compliance, International Trade Administration, U.S. Department of Commerce, 1401 Constitution Avenue NW, Washington, DC 20230; telephone: (202) 482-5449.

SUPPLEMENTARY INFORMATION:

Background

On August 9, 2004, Commerce published in the Federal Register the antidumping duty (AD) order on polyethylene retail carrier bags from Malaysia.¹ On August 1, 2024, Commerce published in the Federal Register a notice of opportunity to request an administrative review of the Order.² On September 20, 2024, based on timely requests for review, Commerce initiated an administrative review covering Euro SME.³

¹ See Antidumping Duty Order: Polyethylene Retail Carrier Bags from Malaysia, 69 FR 48203 (August 9, 2004) (Order).

² See Antidumping or Countervailing Duty Order, Finding, or Suspended Investigation; Opportunity to Request Administrative Review and Join Annual Inquiry Service List, 89 FR 62714 (August 1, 2024).

³ See Petitioners' Letter, “Request for Administrative Review,” dated August 30, 2024.

³ See Initiation of Antidumping and Countervailing Duty Administrative Reviews, 89 FR 77079 (September 20, 2024) (Initiation Notice).

On December 9, 2024, Commerce tolled the deadline to issue the preliminary results in this administrative review by 90 days.⁴ On July 3, 2025, Commerce extended the deadline for these preliminary results.⁵ Due to the lapse in appropriations and Federal Government shutdown, on November 14, 2025, Commerce tolled all deadlines in administrative proceedings by 47 days,⁶ and, due to a backlog of documents that were electronically filed via Enforcement and Compliance's Antidumping and Countervailing Duty Centralized Electronic Service System (ACCESS) during the Federal Government shutdown, on November 24, 2025, Commerce tolled all deadlines in administrative proceedings by an additional 21 days.⁷ Finally, on December 22, 2025, Commerce fully extended the deadline for these preliminary results until February 5, 2026.⁸

⁴ See Memorandum, “Tolling of Deadlines for Antidumping and Countervailing Duty Proceedings,” dated December 9, 2024.

⁵ See Memorandum, “Extension of Deadline for the Preliminary Results of Antidumping Duty Administrative Review,” dated July 3, 2025.

⁶ See Memorandum, “Deadlines Affected by the Shutdown of the Federal Government,” dated November 14, 2025.

⁷ See Memorandum, “Tolling of all Case Deadlines,” dated November 24, 2025.

⁸ See Memorandum, “Extension of Deadline for the Preliminary Results of Antidumping Duty Administrative Review,” dated December 22, 2025.

For a complete description of the events that followed the initiation of this review, see the Preliminary Decision Memorandum.⁹ A list of topics included in the Preliminary Decision Memorandum is included as an appendix to this notice. The Preliminary Decision Memorandum is a public document and is on file electronically via ACCESS. ACCESS is available to registered users at https://access.trade.gov. In addition, a complete version of the Preliminary Decision Memorandum can be accessed directly at https://access.trade.gov/public/FRNoticesListLayout.aspx.

⁹ See Memorandum, “Decision Memorandum for the Preliminary Results of the 2023-2024 Antidumping Duty Administrative Review: Polyethylene Retail Carrier Bags from Malaysia,” dated concurrently with, and hereby adopted by, this notice (Preliminary Decision Memorandum).

Scope of the Order

The merchandise covered by this Order is polyethylene retail carrier bags from Malaysia. For a full description of the scope of the Order, see the Preliminary Decision Memorandum.

Methodology

Commerce is conducting this review in accordance with section 751(a)(1)(B) of the Tariff Act of 1930, as amended (the Act). Export price and constructed export price were calculated in accordance with section 772 of the Act. Normal value is calculated in accordance with section 773 of the Act. For a full description of the methodology underlying these preliminary results, see the Preliminary Decision Memorandum.

Preliminary Results of the Review

We preliminarily determine that the following estimated weighted-average dumping margin exists for the period August 1, 2023, through July 31, 2024:

Exporter/producer | Weighted-average dumping margin (percent)
Euro SME Sdn. Bhd.; and Euro Nature Green Sdn. Bhd.¹⁰ | 0.00

Disclosure

¹⁰ In the 2018-2019 review, Commerce treated Euro SME and Euro Nature Green Sdn. Bhd. (Nature Green) as a single entity. See Polyethylene Retail Carrier Bags from Malaysia: Preliminary Results of Antidumping Duty Administrative Review; 2018-2019, 85 FR 83515 (December 22, 2020), and accompanying Preliminary Decision Memorandum at 3-5, unchanged in Polyethylene Retail Carrier Bags from Malaysia: Preliminary Results of Antidumping Duty Administrative Review; 2018-2019, 86 FR 22019 (April 26, 2021). Our treatment of Euro SME and Nature Green remains unchanged in this review.

Commerce intends to disclose its calculations and analysis performed to interested parties for these preliminary results within five days of any public announcement or, if there is no public announcement, within five days of the date of publication of this notice in accordance with 19 CFR 351.224(b).

Public Comment

Case briefs or other written comments may be submitted to the Assistant Secretary for Enforcement and Compliance.¹¹ Pursuant to 19 CFR 351.309(c)(1)(ii), we have modified the deadline for interested parties to submit case briefs to Commerce to no later than 21 days after the publication of this notice.¹² Rebuttal briefs, limited to issues raised in the case briefs, may be filed no later than five days after the date for filing case briefs.¹³ Interested parties who submit case or rebuttal briefs in this proceeding must submit: (1) a table of contents listing each issue; (2) a brief summary of the argument and, (3) a table of authorities.¹⁴ All briefs must be filed electronically using ACCESS. An electronically filed document must be received successfully in its entirety in ACCESS by 5:00 p.m. Eastern Time on the established deadline.

¹¹ See 19 CFR 351.309(b).

¹² Commerce is exercising its discretion under 19 CFR 351.309(c)(1)(ii) to alter the time limit for the filing of case briefs. See 19 CFR 351.309(c)(1)(ii).

¹³ See 19 CFR 351.309(d); see also Administrative Protective Order, Service, and Other Procedures in Antidumping and Countervailing Duty Proceedings, 88 FR 67069, 67077 (September 29, 2023) (APO and Service Procedures).

¹⁴ See 19 CFR 351.309(c)(2) and (d)(2).

As provided under 19 CFR 351.309(c)(2)(iii) and (d)(2)(iii), we request that interested parties provide at the beginning of their briefs a public, executive summary for each issue raised in their briefs.¹⁵ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁶

¹⁵ We use the term “issue” here to describe an argument that Commerce would normally address in a comment of the Issues and Decision Memorandum.

¹⁶ See Administrative Protective Order, Service, and Other Procedures in Antidumping and Coutervailing Duty Proceedings; Final Rule, 88 FR 67069 (September 29, 2023).

Pursuant to 19 CFR 351.310(c), interested parties who wish to request a hearing must submit a written request to the Assistant Secretary for Enforcement and Compliance, filed electronically via ACCESS within 30 days after the publication of this notice. Requests should contain: (1) the party's name, address, and telephone number; (2) the number of participants; and (3) a list of issues to be discussed. Issues raised in the hearing will be limited to those raised in the respective case briefs. If a hearing request is made, Commerce will inform parties of the scheduled date for the hearing.¹⁷

¹⁷ See CFR 315.310(d).

Assessment Rates

Pursuant to section 751(a)(2)(A) of the Act, upon issuance of the final results, Commerce will determine, and U.S. Customs and Border Protection (CBP) shall assess, antidumping duties on all appropriate entries covered by this review. If a respondent's weighted-average dumping margin is above de minimis in the final results of this review, we will calculate an importer-specific assessment rate based on the ratio of the total amount of dumping calculated for each importer's examined sales and the total entered value of the sales in accordance with 19 CFR 351.212(b)(1).¹⁸ Where the respondent did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. If a respondent's weighted-average dumping margin or an importer-specific assessment rate is zero or de minimis in the final results of review, we will instruct CBP to liquidate the appropriate entries without regard to antidumping duties in accordance with the Final Modification for Reviews.¹⁹

¹⁸ In these preliminary results, Commerce applied the assessment rate calculation method adopted in Antidumping Proceedings: Calculation of the Weighted-Average Dumping Margin and Assessment Rate in Certain Antidumping Proceedings; Final Modification, 77 FR 8101 (February 14, 2012) (Final Modification for Reviews).

¹⁹ See Final Modification for Reviews, 77 FR at 8103; see also 19 CFR 351.106(c)(2).

In accordance with Commerce's “automatic assessment” practice, for entries of subject merchandise during the POR produced by Euro SME for which it did not know that the merchandise was destined for the United States, we will instruct CBP to liquidate such entries at the all-others rate in the original less-than-fair-value (LTFV) investigation (i.e., 84.94 percent) if there is no rate for the intermediate company(ies) involved in the transaction.²⁰

²⁰ See Order, 69 FR at 48204.

The final results of this administrative review shall be the basis for the assessment of antidumping duties on entries of merchandise covered by the final results of this review and for future deposits of estimated duties, where applicable.²¹ We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²¹ See section 751(a)(2)(C) of the Act.

Cash Deposit Requirements

The following cash deposit requirements will be effective for all shipments of the subject merchandise entered, or withdrawn from warehouse, for consumption on or after the publication date of the final results of this administrative review, as provided by section 751(a)(2)(C) of the Act: (1) the cash deposit rates for the companies identified above in the “Final Results of Review” section will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 84.94 percent, the rate established in the investigation of this proceeding.²² These cash deposit requirements, when imposed, shall remain in effect until further notice.

²² See Order, 69 FR at 48204.

Final Results of Review

Unless otherwise extended, Commerce intends to issue the final results of this administrative review, including the results of its analysis of the issues raised in any written briefs, no later than 120 days after the date of publication of this notice in the Federal Register, pursuant to section 751(a)(3)(A) of the Act and 19 CFR 351.213(h)(1).

Notification to Importers

This notice serves as a reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification to Interested Parties

We are issuing and publishing this notice in accordance with sections 751(a)(1) and 777(i)(1) of the Act, 19 CFR 351.213(h)(2) and 351.221(b)(4).

Dated: February 5, 2026.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Discussion of the Methodology

V. Currency Conversion

VI. Recommendation

[FR Doc. 2026-02641 Filed 2-9-26; 8:45 am]

BILLING CODE 3510-DS-P